DEPARTMENT OF TRANSPORTATION

Federal Aviation Administration

Notice of Opportunity for Public Comment on a Proposed Release of Airport Property for Non-Aeronautical Use at Curtis Field Airport, Brady, TX

AGENCY: Federal Aviation Administration (FAA), DOT.

ACTION: Notice.

SUMMARY: The FAA is considering a request from Curtis Field Airport to release approximately 0.39 acres of airport property located on U.S. Route 377 on the eastern portion of the Airport property as shown on the approved Airport Layout Plan (ALP).

DATES: Comments must be received on or before May 5, 2022.

ADDRESSES: Send comments on this document to Mrs. Jessica Bryan, Federal Aviation Administration, Texas Airports District Office, 10101 Hillwood Parkway, Fort Worth, TX 76177.

FOR FURTHER INFORMATION CONTACT: Ms. Lisa Perry, Airport Manager, Curtis Field Airport, 3825 N Bridge Street, Brady, TX 76825, telephone 325-597-2152; or Mrs. Jessica Bryan, Federal Aviation Administration, Texas Airports District Office, 10101 Hillwood Parkway, Fort Worth, TX 76177, telephone (817) 222-4039. Documents reflecting this FAA action may be reviewed at the above locations.

SUPPLEMENTARY INFORMATION: The proposal consists of 0.39 acres of airport property (Tract 1) which was part of 325.09 acres of land that was conveyed to the City of Brady via a Quitclaim Deed dated November 22, 1946, by the United States of America acting by and through the War Assets Administrator under the provisions of the Surplus Property Act of 1944. This portion of land is outside the forecasted need for aviation development and is not needed for indirect or direct aeronautical use. A water tower will be constructed on the converted parcel, as part of the City of Brady's water improvement project. This new water tower will increase water pressure and supply needed to support improvements to the City, the Airport, and Airport Operations. Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with section 47107(h) of title 49, United States Code, this notice is required to be published in the Federal Register 30 days before modifying the land-use assurance that requires the property to be used for an aeronautical purpose.

Issued in Fort Worth, TX, on March 30, 2022.
Ignacio Flores,
Director, Airports Division, FAA, Southwest Region.

[FR Doc. 2022-07081 Filed 4-4-22; 8:45 am]

BILLING CODE 4910-13-P